DEPARTMENT OF THE INTERIOR

Fish and Wildlife Service

[FWS-R8-ES-2020-N058; FXES11140800000-190-FF08EVEN00]

Draft Environmental Assessment and Draft General Conservation Plan for Oil and Gas Activities in Santa Barbara County, California; Extension of Public Comment Period

AGENCY: Fish and Wildlife Service, Interior.

ACTION: Notice of availability; extension of public comment period.

SUMMARY: The U.S. Fish and Wildlife Service (Service) is extending the public comment period for the draft environmental assessment (DEA) and general conservation plan (GCP) for oil and gas activities in Santa Barbara County.

DATES: The comment period for the DEA and GCP, published on March 6, 2020, at 85 FR 13181, which expires on April 6, 2020, is extended. Please submit your comments by 11:59 p.m. PST on May 6, 2020.

ADDRESSES:

Document availability: To view the DEA and GCP, go to the U.S. Fish and Wildlife Service's Ventura Field Office website at http://www.fws.gov/ventura.

Submitting comments: You may submit comments by one of the following methods. If you have already submitted a comment, you need not resubmit it.

• U.S. mail: Stephen P. Henry, Field Supervisor, Ventura Fish and Wildlife Office, U.S. Fish and Wildlife Service, 2493 Portola Road, Suite B, Ventura, CA 93003.

• Email: sbc-oilandgasgcp@fws.gov.

We request that you submit comments by only the methods described above.

FOR FURTHER INFORMATION CONTACT: Rachel Henry, by phone at 805-677-3312 or via the Federal Relay Service at 1-800-877-8339 for TTY assistance.

SUPPLEMENTARY INFORMATION: The GCP was developed by the Service in accordance with section 10(a)(2)(A) of the Endangered Species Act of 1973, as amended (ESA; 16 U.S.C. 1531 et seq.). The GCP meets the issuance criteria as required by section 10(a)(2)(B) of the ESA for issuance of a section 10(a)(1)(B) incidental take permit (ITP). For more information, see the March 6, 2020 (85 FR 13181), notice.

We are extending the public comment period on the DEA and GCP documents (see DATES and ADDRESSES).

Authority

We issue this notice pursuant to section 10(c) of the ESA (16 U.S.C. 1531 et seq.) and its implementing regulations (50 CFR 17.22 and 17.32), and the National Environmental Policy Act (42 U.S.C. 4321 et seq.) and its implementing regulations (40 CFR 1506.6 and 43 CFR 46.305).

Stephen Henry,
Field Supervisor, Ventura Fish and Wildlife Office, Ventura, California.

[FR Doc. 2020-06465 Filed 3-26-20; 8:45 am]

BILLING CODE 4333-15-P